DEPARTMENT OF EDUCATION

[Docket No.: ED-2022-SCC-0098]

Agency Information Collection Activities; Submission to the Office of Management and Budget for Review and Approval; Comment Request; GEPA Section 427 Guidance for All Grant Applications

AGENCY: Office of the Secretary (OS), Department of Education (ED).

ACTION: Notice.

SUMMARY: In accordance with the Paperwork Reduction Act of 1995, ED is proposing a revision of a currently approved information collection.

DATES: Interested persons are invited to submit comments on or before November 28, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Cleveland Knight, 202-987-0064.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: GEPA Section 427 Guidance for All Grant Applications.

OMB Control Number: 1894-0005.

Type of Review: A revision of a currently approved collection.

Respondents/Affected Public: State, Local, and Tribal Governments.

Total Estimated Number of Annual Responses: 12,816.

Total Estimated Number of Annual Burden Hours: 38,448.

Abstract: On October 20, 1994, the Improving America's Schools Act, Public Law 103-382 (The Act), became law. The Act added a provision to the General Education Provisions Act (GEPA), section 427. Section 427 of GEPA requires an applicant for assistance under Department programs to develop and describe in the grant application the steps it proposes to take to ensure equitable access to, and equitable participation in, its proposed project for students, teachers, and other program beneficiaries. Applicants have responded to the GEPA 427 requirements for approximately the last 27 years, and the current form expires in June 2023. In response to the Agency's Equity Plan resulting from the President's Executive Order 13985, we now propose to update that form by expanding the number of questions from one to four.

These four questions are intended to help applicants for Department grant funds to be more intentional and specific as to identifying barriers to equitable access and how they will address those barriers consistent with the requirements of section 427 of GEPA. As with the existing form, applicants retain the flexibility to determine and define for themselves the barriers to “equitable access” and “equitable participation” based on the design of their proposed grant projects and the participants and community the project proposes to serve.

Dated: October 25, 2022.
Stephanie Valentine,
PRA Coordinator, Strategic Collections and Clearance, Governance and Strategy Division, Office of Chief Data Officer, Office of Planning, Evaluation and Policy Development.

[FR Doc. 2022-23528 Filed 10-27-22; 8:45 am]

BILLING CODE 4000-01-P